DEPARTMENT OF COMMERCE

National Oceanic and Atmospheric Administration

50 CFR Part 660

[Docket No. 130108020-3409-01]

RIN 0648-XC738

Fisheries Off West Coast States; Modifications of the West Coast Commercial Salmon Fisheries; Inseason Actions #6 Through #11

AGENCY: National Marine Fisheries Service (NMFS), National Oceanic and Atmospheric Administration (NOAA), Commerce.

ACTION: Modification of fishing seasons; request for comments.

SUMMARY: NOAA Fisheries announces six inseason actions in the ocean salmon fisheries. These inseason actions modified the commercial fisheries in the area from the U.S./Canada Border to Humboldt South Jetty.

DATES: The effective dates for the inseason actions are set out in this document under the heading Inseason Actions. Comments will be accepted through September 3, 2013.

ADDRESSES: You may submit comments, identified by NOAA-NMFS-2012-0248, by any one of the following methods:

• Electronic Submissions: Submit all electronic public comments via the Federal eRulemaking Portal. Go to www.regulations.gov/#!docketDetail;D=NOAA-NMFS-2012-0248, click the “Comment Now!” icon, complete the required fields, and enter or attach your comments.

• Mail: William W. Stelle, Jr., Regional Administrator, Northwest Region, NMFS, 7600 Sand Point Way NE., Seattle, WA, 98115-6349.

• Fax: 206-526-6736, Attn: Peggy Mundy.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Peggy Mundy at 206-526-4323.

SUPPLEMENTARY INFORMATION:

Background

In the 2013 annual management measures for ocean salmon fisheries (78 FR 25865, May 3, 2013), NMFS announced the commercial and recreational fisheries in the area from the U.S./Canada Border to the U.S./Mexico Border, beginning May 1, 2013, and 2014 salmon seasons opening earlier than May 1, 2014. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Pacific Fishery Management Council (Council) and the appropriate State Directors (50 CFR 660.409(b)—Flexible inseason management provisions).

Management of the salmon fisheries is generally divided into two geographic areas: North of Cape Falcon (U.S./Canada Border to Cape Falcon, Oregon) and south of Cape Falcon (Cape Falcon, Oregon to the U.S./Mexico Border). Inseason actions #6 through #10 in this document apply south of Cape Falcon; inseason action #11 in this document applies north of Cape Falcon.

The fisheries affected by the inseason actions in this document are all based on quotas to manage impacts on specific salmon stocks that constrain fisheries to meet conservation objectives, annual catch limits (ACLs), and consultation standards for stocks listed under the Endangered Species Act (ESA-listed). Annual management measures allow for adjusting quotas among fishing periods on an impact neutral basis, as calculated by the Salmon Technical Team (STT).

Inseason Action

The table below lists the inseason actions announced in this document.

Inseason action number | Effective date | Salmon fishery affected
6 | June 4, 2013 | Commercial fishery from the Oregon/California Border to Humboldt South Jetty (California Klamath Management Zone or CA-KMZ).
7 | June 9, 2013 | Commercial fishery from the Oregon/California Border to Humboldt South Jetty (California Klamath Management Zone or CA-KMZ).
8 | June 11, 2013 | Commercial fishery from the Oregon/California Border to Humboldt South Jetty (California Klamath Management Zone or CA-KMZ).
9 | July 3, 2013 | Commercial fishery from the Oregon/California Border to Humboldt South Jetty (California Klamath Management Zone or CA-KMZ).
10 | July 3, 2013 | Commercial fishery from Humbug Mountain to the Oregon/California Border (Oregon Klamath Management Zone or OR-KMZ).
11 | July 3, 2013 | Commercial fisheries from the US/Canada Border to Cape Falcon.

Inseason Action #6

The RA consulted with representatives of the Council, California Department of Fish and Wildlife (CDFW), and Oregon Department of Fish and Wildlife (ODFW) on June 4, 2013.

The information considered during this consultation related to updated catch information from the May commercial salmon fishery in the CA-KMZ. Inseason action #6 adjusted the commercial salmon quota for June in the CA-KMZ. This action was taken to allow access to available quota within allowable impacts to constraining stocks. The May fishery had a quota of 3,000 Chinook salmon; actual landings were 2,700 Chinook salmon; therefore, 300 Chinook quota from May remained. The Salmon Technical Team (STT) calculated that transferring 300 Chinook from the May fishery to the June fishery in the CA-KMZ on an impact neutral basis for Klamath River fall Chinook (KRFC) would result in an addition of 352 Chinook salmon to the June quota, which was set preseason at 3,000 Chinook salmon. KRFC is the constraining stock for CA-KMZ fisheries to meet ACLs and as a surrogate for impacts to ESA-listed California coastal Chinook salmon. On June 4, 2013, the states recommended adopting an adjusted quota of 3,352 Chinook salmon for the June commercial fishery in the CA-KMZ and the RA concurred. Inseason action #6 took effect on June 4, 2013 and remains in effect to the end of the season. Inseason action to modify quotas and/or fishing seasons is authorized by § 660.409(b)(1)(i).

Inseason Action #7

The RA consulted with representatives of the Council, CDFW, and ODFW on June 7, 2013.

The information considered during this consultation related to catch and effort to date in the commercial salmon fishery in the CA-KMZ. Inseason action #7 closed the commercial salmon fishery in this area at 11:59 p.m., June 9, 2013 to allow managers the opportunity to evaluate catch to date, which was projected to be approaching the June quota. This action was taken to prevent exceeding the June quota. On June 7, 2013, the state of California recommended this action and the RA concurred. Inseason action #7 took effect on June 9, 2013 and remained in effect until superseded by inseason action #8 on June 11, 2013. Inseason action to modify quotas and/or fishing seasons is authorized by § 660.409(b)(1)(i).

Inseason Action #8

The RA consulted with representatives of the Council, CDFW, and ODFW on June 10, 2013.

The information considered during this consultation related to catch and effort to date in the commercial salmon fishery in the CA-KMZ, including landings reported subsequent to the closure implemented under inseason action #7. The state of California recommended that sufficient quota remained to support an additional 24-hour opening of this fishery and the RA concurred. Inseason action #8 reopened this fishery from 12:01 a.m., Tuesday, June 11, 2013 to 11:59 p.m., Tuesday, June 11, 2013, after which the fishery remained closed for the remainder of June. This action was taken to provide access to, without exceeding, remaining quota for the June fishery. Inseason action to modify quotas and/or fishing seasons is authorized by § 660.409(b)(1)(i).

Inseason Action #9

The RA consulted with representatives of the Council, CDFW, ODFW, and Washington Department of Fish and Wildlife (WDFW) on July 3, 2013.

The information considered during this consultation related to catch information from the June commercial salmon fishery in the CA-KMZ. Inseason action #9 adjusted the commercial salmon quota for July in the CA-KMZ. This action was taken to allow access to available quota within allowable impacts to constraining stocks. The June fishery had an adjusted quota of 3,352 Chinook salmon; actual landings in June were 2,965 Chinook salmon; therefore, 387 Chinook quota from June remained. The STT calculated that transferring 387 Chinook from the June fishery to the July fishery in the CA-KMZ on an impact neutral basis for KRFC would result in an addition of 547 Chinook salmon to the July quota, which was set preseason at 2,000 Chinook salmon. KRFC is the constraining stock for CA-KMZ fisheries to meet ACLs and as a surrogate for impacts to ESA-listed California coastal Chinook. On July 3, 2013, the states recommended adopting an adjusted quota of 2,547 Chinook salmon for the July commercial fishery in the CA-KMZ and the RA concurred. Inseason action #9 took effect on July 3, 2013 and remains in effect to the end of the season or until modified by inseason action. Inseason action to modify quotas and/or fishing seasons is authorized by § 660.409(b)(1)(i).

Inseason Action #10

The RA consulted with representatives of the Council, CDFW, ODFW, and WDFW on July 3, 2013.

The information considered during this consultation related to catch and effort to date in the commercial salmon fishery in the OR-KMZ. Inseason action #10 adjusted the commercial salmon quota for July in the OR-KMZ. This action was taken to allow access to available quota within allowable impacts to constraining stocks. The June fishery had a quota of 4,000 Chinook salmon. June landings were estimated at 1,525; therefore, 2,475 Chinook quota from June remained. The STT calculated that transferring 2,475 from the June fishery to the July fishery in the OR-KMZ on an impact neutral basis for KRFC would result in an addition of 1,782 Chinook salmon to the July quota, which was set preseason at 3,000 Chinook salmon. KRFC is the constraining stock for OR-KMZ fisheries to meet annual catch limits (ACLs) and as a surrogate for impacts to ESA-listed California coastal Chinook. On July 3, 2013, the state of Oregon recommended adopting an adjusted quota of 4,782 Chinook salmon for the July commercial fishery in the OR-KMZ and the RA concurred. Inseason action #10 took effect on July 3, 2013 and remains in effect to the end of the season or until modified by inseason action. Inseason action to modify quotas and/or fishing seasons is authorized by § 660.409(b)(1)(i).

Inseason Action #11

The RA consulted with representatives of the Council, CDFW, ODFW, and WDFW on July 3, 2013.

The information considered during this consultation related to catch and effort to date in the commercial salmon fishery north of Cape Falcon, Oregon. Inseason action #11 adjusted the commercial salmon quota for the July-September season. This action was taken to allow access to available quota within allowable impacts to constraining stocks. The May-June fishery had a quota of 29,300 Chinook salmon, with a subarea quota of 8,700 Chinook salmon in the area north of the Queets River. May-June landings were estimated at 24,037 Chinook north of Cape Falcon, with 8,167 Chinook salmon landed north of the Queets River. The STT calculated that transferring the remaining quota to the July-September season on an impact neutral basis for Lower Columbia River Chinook salmon (natural tule), an ESA-listed stock, would result in adding 4,600 Chinook salmon to the 14,700 Chinook quota established preseason for the area north of Cape Falcon. On July 3, 2013, the state of Washington recommended adopting an adjusted quota of 19,300 Chinook salmon in the July-September commercial fishery north of Cape Falcon, of which no more than 6,600 Chinook salmon may be landed north of the Queets River, and the RA concurred. Inseason action #11 took effect on July 3, 2013 and remains in effect to the end of the season or until modified by inseason action. Inseason action to modify quotas and/or fishing seasons is authorized by § 660.409(b)(1)(i).

All other restrictions and regulations remain in effect as announced for the 2013 ocean salmon fisheries and 2014 fisheries opening prior to May 1, 2014 (78 FR 25865, May 3, 2013) and subsequent inseason actions (78 FR 30780, May 23, 2013; and 78 FR 35153, June 12, 2013).

The RA determined that the best available information indicated that catch and effort projections supported the above inseason actions recommended by the states of California, Oregon, and Washington. The states manage the fisheries in state waters adjacent to the areas of the U.S. exclusive economic zone in accordance with these Federal actions. As provided by the inseason notice procedures of 50 CFR 660.411, actual notice of the described regulatory actions was given, prior to the time the action was effective, by telephone hotline number 206-526-6667 and 800-662-9825, and by U.S. Coast Guard Notice to Mariners broadcasts on Channel 16 VHF-FM and 2182 kHz.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (78 FR 25865, May 3, 2013), the West Coast Salmon Fishery Management Plan (Salmon FMP), and regulations implementing the Salmon FMP, 50 CFR 660.409 and 660.411. Prior notice and opportunity for public comment was impracticable because NMFS and the state agencies had insufficient time to provide for prior notice and the opportunity for public comment between the time the catch and effort projections were developed and fisheries impacts calculated, and the time the fishery modifications had to be implemented in order to ensure that fisheries are managed based on the best available scientific information, thus allowing fishers access to the available fish at the time the fish were available while ensuring that quotas are not exceeded. The AA also finds good cause to waive the 30-day delay in effectiveness required under 5 U.S.C. 553(d)(3), as a delay in effectiveness of these actions would allow fishing at levels inconsistent with the goals of the Salmon FMP and the current management measures.

These actions are authorized by 50 CFR 660.409 and 660.411 and are exempt from review under Executive Order 12866.

Authority: 16 U.S.C. 1801 et seq.

Dated: August 14, 2013.
James P. Burgess,
Acting Deputy Director, Office of Sustainable Fisheries, National Marine Fisheries Service.

[FR Doc. 2013-20181 Filed 8-16-13; 8:45 am]

BILLING CODE 3510-22-P